NATIONAL TRANSPORTATION SAFETY BOARD

Sunshine Act Meeting Notice

Time and Date: 9:30 a.m., Tuesday, January 25, 2005.

Place: NTSB Board Room, 429 L'Enfant Plaza, SW., Washington, DC 20594.

Status: The one item is Open to the Public.

Matters To Be Considered: 7686 Railroad Accident Report—Derailment of Canadian National Freight Train M33371-08 and Subsequent Release of Hazardous Materials in Tamaroa, Illinois, February 9, 2003.

News Media Contact: Telephone: (202) 314-6100.

Individuals requesting specific accommodations should contact Ms. Carolyn Dargan at (202) 314-6305 by Friday, January 21, 2005.

The public may view the meeting via a live or archived Web cast by accessing a link under “News & Events” on the NTSB home page at http://www.ntsb.gov.

For More Information Contact: Vicky D'Onofrio, (202) 314-6410.

Dated: January 14, 2005.
Vicky D'Onofrio,
Federal Register Liaison Officer.

[FR Doc. 05-1138 Filed 1-14-05; 1:26 pm]

BILLING CODE 7533-01-M